DEPARTMENT OF AGRICULTURE

Food and Nutrition Service

Agency Information Collection Activities: Proposed collection; Comment Request—Senior Farmers' Market Nutrition Program (SFMNP)

AGENCY: Food and Nutrition Service (FNS), USDA.

ACTION: Notice.

SUMMARY: In accordance with the Paperwork Reduction Act of 1995, this notice invites the general public and other public agencies to comment on this proposed information collection. This collection is a revision of a currently approved collection for the Senior Farmers' Market Nutrition Program (SFMNP).

DATES: Written comments must be received on or before May 2, 2016.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Written comments may be sent to: Kurtria Watson, Chief, Policy Branch, Supplemental Food Programs Division, Food and Nutrition Service, U.S. Department of Agriculture, 3101 Park Center Drive, Room 528, Alexandria, VA 22302. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: To request more information on this proposed information collection, contact Kurtria Watson, Chief, Policy Branch, Supplemental Food Programs Division, Food and Nutrition Service, USDA, 3101 Park Center Dr., Room 528, Alexandria, VA 22302.

SUPPLEMENTARY INFORMATION:

Title: Senior Farmers' Market Nutrition Program (SFMNP).

Form Number: FNS 683A.

OMB Number: 0584-0541.

Expiration Date: May 31, 2016.

Type of Request: Revision of a currently approved collection.

Abstract: Section 4203 of the Agricultural Act of 2014 (Pub. L. 113-79, also known as the Farm Bill) reauthorized the Senior Farmers' Market Nutrition Program (SFMNP) through fiscal year 2018; a prior law (the Farm Security and Rural Investment Act of 2002 (Pub. L. 107-171)) gave the Department of Agriculture the authority to promulgate regulations for the operation and administration of the SFMNP. These regulations are published at 7 CFR part 249. The purposes of the SFMNP are to provide resources in the form of fresh, nutritious, unprepared, locally grown fruits, vegetables, honey and herbs from farmers' markets, roadside stands, and community supported agriculture (CSA) programs to low income seniors; to increase the domestic consumption of agricultural commodities by expanding or aiding in the expansion of domestic farmers' markets, roadside stands, and CSA programs; and to develop or aid in the development of new and additional farmers' markets, roadside stands, and CSA programs.

USDA published a final rulemaking on the SFMNP on December 6, 2006 (71 FR 74618), that contained an estimated information collection burden based on the rule's requirements for program operation and administration. SFMNP financial and program information is collected on the FNS Form 683A and is submitted annually to the Food and Nutrition Service (FNS) by participating SFMNP State agencies. This information is used to reconcile and close out grants in accordance with the requirements of 7 CFR 3016.23(b) and 7 CFR 3016.41(a)(1). Program information is also used by FNS for program planning purposes, and for reporting to Congress as needed. The previous SFMNP information collection burden was approved by the Office of Management and Budget (OMB) for 3 years, effective May 2013, under OMB#0584-0541. The Department is now soliciting comments on the accuracy and reasonableness of the renewal of this estimated burden.

The estimated total annual Reporting and Recordkeeping burden for SFMNP information collection is 422,023 hours. This estimated total burden is 52,250 hours lower than the previously approved collection burden. While the number of State agencies has increased slightly, several SFMNP State agencies report a decrease in the number of participants served and number of authorized farmers' markets. In addition, several calculation errors were corrected in this revision, further reducing the estimate. See the table below for estimated total annual burden for each type of respondent.

Affected Public: Respondents include State agencies, local agencies, individuals/households (participants), and authorized SFMNP farms (farmers, farmers' markets, roadside stands, and CSA programs).

Estimated Number of Respondents: The total estimated number of respondents is 804,714. This includes: State agencies, local agencies, individuals/households (participants), and authorized SFMNP farms (farmers, farmers' markets, roadside stands, and CSA programs).

Estimated Number of Responses per Respondent: The estimated number of responses per respondent across the entire collection is 3. For the reporting burden it is 2, while recordkeeping is 15,390.

Estimated Total Annual Responses: 2,408,711. The total reporting responses are 1,608,451, while the total recordkeeping responses are 800,260.

Estimated Time per Response: The estimated time of response averages 0.18 hours for all participants. For the reporting burden, the estimated time of response varies from approximately 1 minute to 160 hours, while the estimated time of response for the recordkeeping burden varies from 15 minutes to 40 hours, depending on the respondent group.

Estimated Total Annual Burden on Respondents: 422,023 hours. The reporting and recordkeeping burden is 219,579 and 202,444 hours, respectively. See the table below for estimated total annual burden for each type of respondent.

Senior Farmers' Market Nutrition Program Burden Collection Chart
Regulation section | Title | Estimated number of respondents | Reports filed annually | Total annual response | Estimated hrs/response | Annual burden hrs
Affected Public: STATE & LOCAL AGENCIES (Including Indian Tribal Organizations and U.S. Territories)
Reporting:
249.3(d) | Local Agency Applications | 1040 | .5 | 520 | 2 | 1,040
249.4 | State Plan | 52 | 1 | 52 | 40 | 2,080
249.6(a)(3) | Certification data for seniors | 52 | 15,385 | 800,000 | .25 | 200,000
249.10(b) | Review of vendor applications | 52 | 70 | 3622 | 1 | 3622
249.10(e) | Monitoring/review of outlets | 52 | 7.0 | 362 | 1.5 | 543
249.10(f) | Coupon/CSA management system | 52 | 1 | 52 | 5 | 260
249.10(h) | Coupon reconciliation | 52 | 1 | 52 | 3 | 156
249.11 | Financial management system | 52 | 1 | 52 | 10 | 520
249.12 | Prior Approval for costs per 2 CFR 200 | 5 | 1 | 5 | 160 | 800
249.17(b)(2) | State agency corrective action plans | 7 | 1 | 7 | 10 | 70
249.18(b) | Audit responses | 1 | 1 | 1 | 15 | 15
249.23(b) | Financial/recipient reports | 52 | 1 | 52 | 40 | 2,080
249.23(b) | Annual Financial and Program Data Report (FNS 683A) | 52 | 1 | 52 | 2 | 104
Subtotal | (Reporting Requirements) | 1,092 | 737.022 | 804,829 | 0.26252 | 211,290
Affected Public: INDIVIDUALS/HOUSEHOLDS (Applicants for Program Benefits)
Reporting:
249.6 | Certification data for seniors | 800,000 | 1 | 800,000 | 0.01 | 8,000
Subtotal | (Reporting Requirements) | 800,000 |  | 800,000 |  | 8,000
Affected Public: Farms (Farmers/Markets/Roadside stands/CSA's)
Reporting:
249.10(b) | Farmer agreements | 3,622 | 1 | 3,622 | 0.08 | 290
Subtotal | (Reporting Requirements) | 3,622 |  | 3,622 |  | 290
Subtotal Reporting |  | 804,714 | 2 | 1,608,451 | 0.14 | 219,579
Affected Public: STATE & LOCAL AGENCIES (Including Indian Tribal Organizations and U.S. Territories)
Recordkeeping:
249.9 | Nutrition education | 52 | 15,385 | 800,000 | 0.25 | 200,000
249.10(b) | Authorized outlet agreements | 52 | 1 | 52 | 2 | 104
249.10(e) | Summary of authorized outlet monitoring | 52 | 1 | 52 | 2 | 104
249.11 | Record of financial expenditures | 52 | 1 | 52 | 2 | 104
249.16(a) | Fair hearings | 52 | 1 | 52 | 1 | 52
249.23(a) | Record of program operations | 52 | 1 | 52 | 40 | 2,080
Subtotal | (Recordkeeping Requirements) | 52 | 15,390 | 800,260 | 0.25 | 202,444
Total Burden | (Reporting & Recordkeeping) | 804,714 | 3 | 2,408,711 | 0.18 | 422,023

Dated: February 22, 2016.
Audrey Rowe,
Administrator, Food and Nutrition Service.

[FR Doc. 2016-04443 Filed 2-29-16; 8:45 am]

BILLING CODE 3410-30-P